DEPARTMENT OF THE INTERIOR

National Park Service

[NPS-WASO-NAGPRA-NPS0037947; PPWOCRADN0-PCU00RP14.R50000]

Notice of Intended Disposition: U.S. Department of the Interior, Bureau of Land Management, Battle Mountain District, Battle Mountain, NV

AGENCY: National Park Service, Interior.

ACTION: Notice.

SUMMARY: In accordance with the Native American Graves Protection and Repatriation Act (NAGPRA), the Bureau of Land Management, Battle Mountain District (BLM) intends to carry out the disposition of human remains removed from Federal or Tribal lands to the lineal descendants, Indian Tribe, or Native Hawaiian organization with priority for disposition in this notice.

DATES: Disposition of the human remains in this notice may occur on or after June 20, 2024. If no claim for disposition is received by May 21, 2025, the human remains in this notice will become unclaimed human remains.

ADDRESSES: Jon D. Sherve, Field Manager, Bureau of Land Management, Battle Mountain District, 50 Bastian Road, Battle Mountain, NV 89820, telephone (775) 635-4056, email jsherve@blm.gov.

SUPPLEMENTARY INFORMATION: This notice is published as part of the National Park Service's administrative responsibilities under NAGPRA. The determinations in this notice are the sole responsibility of the BLM, and additional information on the human remains or cultural items in this notice, including the results of consultation, can be found in the related records. The National Park Service is not responsible for the identifications in this notice.

Abstract of Information Available

Based on the information available, human remains representing, at least, one individual have been reasonably identified. No associated funerary objects are present. The remains were reported in Reese River Valley in February 1976 on lands managed by the BLM in Lander County, Nevada. The Lander County Sheriff's Office was notified of the remains. The human remains were fully exhumed by the BLM and the Yomba Shoshone Tribe on July 20, 2009, and the remains were sent to the University of Nevada, Reno (UNR) on June 22, 2010. The remains are still housed at UNR.

Determinations

The BLM has determined that:

• The human remains described in this notice represent the physical remains of one individual of Native American ancestry.

• The Yomba Shoshone Tribe of the Yomba Reservation, Nevada has priority for disposition of the human remains described in this notice.

Claims for Disposition

Written claims for disposition of the human remains in this notice must be sent to the appropriate official identified in this notice under ADDRESSES. If no claim for disposition is received by May 21, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition. Disposition of the human remains in this notice may occur on or after June 20, 2024. If competing claims for disposition are received, the BLM must determine the most appropriate claimant prior to disposition. Requests for joint disposition of the human remains are considered a single request and not competing requests. The BLM is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 9, 2024.
Melanie O'Brien,
Manager, National NAGPRA Program.

[FR Doc. 2024-11093 Filed 5-20-24; 8:45 am]

BILLING CODE 4312-52-P